DEPARTMENT OF ENERGY

Federal Energy Regulatory Commission

18 CFR Chapter I

[Docket No. PL09-4-000]

Smart Grid Policy; Notice of Extension of Time

May 21, 2009.

AGENCY: Federal Energy Regulatory Commission.

ACTION: Notice of extension of time.

SUMMARY: On March 19, 2009, the Federal Energy Regulatory Commission (Commission) issued a Proposed Policy Statement and Action Plan that, among other things, proposed an interim rate policy to encourage the development of smart grid systems. On May 19, 2009, the Commission issued a Notice Requesting Supplemental Comments regarding rate recovery for certain smart grid investments. The Commission is extending the date for filing these supplemental comments.

DATES: Comments are due June 2, 2009.

FOR FURTHER INFORMATION CONTACT: Ray Palmer (Technical Information), Office of Energy Policy and Innovation, Federal Energy Regulatory Commission, 888 First Street, NE., Washington, DC 20426, (202) 502-6569 .

Elizabeth Arnold (Legal Information), Office of the General Counsel, Federal Energy Regulatory Commission, 888 First Street, NE., Washington, DC 20426, (202) 502-8818.

SUPPLEMENTARY INFORMATION:

On March 19, 2009, the Federal Energy Regulatory Commission (Commission) issued a Proposed Policy Statement and Action Plan (Proposed Policy Statement) in the above-captioned proceeding that, among other things, proposed an interim rate policy to encourage the development of Smart Grid systems.¹ On May 19, 2009, the Commission issued a notice in this docket seeking supplemental comments regarding rate recovery for certain grid investments.² The Commission is hereby extending the comment deadline established in the May 19 Notice.

¹ Smart Grid Policy, 126 FERC ¶ 61,253 (2009). As the Proposed Policy Statement described, Smart Grid advancements will apply digital technologies to the electric transmission system and enable real-time coordination of information from various resources to bring new efficiencies to the grid. Id. P 1.

² Smart Grid Policy, 127 FERC ¶ 61,139 (2009) (May 19 Notice).

By this instant notice, the date for filing supplemental comments is extended to and including June 2, 2009.

Kimberly D. Bose,
Secretary.

[FR Doc. E9-12243 Filed 5-22-09; 8:45 am]

BILLING CODE 6717-01-P